DEPARTMENT OF VETERANS AFFAIRS

Advisory Committee on Disability Compensation, Notice of Meeting

The Department of Veterans Affairs (VA) gives notice under the Federal Advisory Committee Act, that a virtual meeting of the Advisory Committee on Disability Compensation (Committee) will be held on July 14-15, 2020, from 9:00 a.m. to 12:00 p.m. (Eastern Standard Time). The virtual meeting is open to the public.

The purpose of the Committee is to advise the Secretary of Veterans Affairs on the maintenance and periodic readjustment of the VA Schedule for Rating Disabilities. The Committee is to assemble and review relevant information relating to the nature and character of disabilities arising during service in the Armed Forces, provide an ongoing assessment of the effectiveness of the rating schedule, and give advice on the most appropriate means of responding to the needs of Veterans relating to disability compensation.

The agenda will include overview briefings on the VA Schedule for Rating Disabilities, Disability Benefits Questionnaires, and other service-related exposures such as burn pits, Blue Water Navy herbicide exposure, and Camp Lejeune water contamination.

No time will be allocated at this virtual meeting for receiving oral presentations from the public. The public may submit 1-2-page summaries of their written statements for the Committee's review. Public comments may be received no later than July 7, 2020, for inclusion in the official meeting record. Please send these comments to Janice Stewart, of the Veterans Benefits Administration, Compensation Service, Implementation Staff at Janice.Stewart@va.gov.

Members of the public who wish to obtain a copy of the agenda, should contact Janice Stewart at Janice.Stewart@va.gov, and provide his/her name, professional affiliation, email address, and phone number. There will also be a call-in number at 1-800-767-1750; access code: 75937#.

Dated: June 18, 2020.
Jelessa M. Burney,
Federal Advisory Committee Management Officer.

[FR Doc. 2020-13455 Filed 6-22-20; 8:45 am]

BILLING CODE P